DEPARTMENT OF ENERGY

Federal Energy Regulatory Commission

Combined Notice of Filings #1

Take notice that the Commission received the following electric corporate filings:

Docket Numbers: EC24-67-000.

Applicants: Golden Maple Infrastructure Partners, L.P., American Transmission Systems, Incorporated, Mid-Atlantic Interstate Transmission, LLC, Trans-Allegheny Interstate Line Company.

Description: Joint Application for Authorization Under Section 203 of the Federal Power Act of Golden Maple Infrastructure Partners, L.P., et al.

Filed Date: 4/5/24.

Accession Number: 20240405-5265.

Comment Date: 5 p.m. ET 4/26/24.

Take notice that the Commission received the following exempt wholesale generator filings:

Docket Numbers: EG24-161-000.

Applicants: Split Rail Solar Energy LLC.

Description: Split Rail Solar Energy LLC submits Notice of Self-Certification of Exempt Wholesale Generator Status.

Filed Date: 4/5/24.

Accession Number: 20240405-5211.

Comment Date: 5 p.m. ET 4/26/24.

Take notice that the Commission received the following Complaints and Compliance filings in EL Dockets:

Docket Numbers: EL24-99-000.

Applicants: Virginia Municipal Electric Association #1 v. Virginia Electric and Power Co.

Description: Complaint of Virginia Municipal Electric Association #1 v. Virginia Electric and Power Co.

Filed Date: 4/5/24.

Accession Number: 20240405-5262.

Comment Date: 5 p.m. ET 4/25/24.

Take notice that the Commission received the following electric rate filings:

Docket Numbers: ER21-2635-002; ER23-1251-002; ER23-1252-002; ER23-1594-001.

Applicants: Hecate Energy Desert Storage 1 LLC, Ortega Grid, LLC, San Jacinto Grid, LLC, Hecate Energy Johanna Facility LLC.

Description: Notice of Change in Status of Hecate Energy Johanna Facility LLC, et al.

Filed Date: 4/4/24.

Accession Number: 20240404-5183.

Comment Date: 5 p.m. ET 4/25/24.

Docket Numbers: ER24-134-002.

Applicants: Three Rivers District Energy, LLC.

Description: Notice of Change in Status of Three Rivers District Energy, LLC.

Filed Date: 4/5/24.

Accession Number: 20240405-5271.

Comment Date: 5 p.m. ET 4/26/24.

Docket Numbers: ER24-1716-000.

Applicants: PJM Interconnection, L.L.C.

Description: § 205(d) Rate Filing: Amendment to WMPA No. 6423, AG1-197 (consent_amend) to be effective 6/8/2024.

Filed Date: 4/8/24.

Accession Number: 20240408-5051.

Comment Date: 5 p.m. ET 4/29/24.

Docket Numbers: ER24-1717-000.

Applicants: PJM Interconnection, L.L.C.

Description: § 205(d) Rate Filing: Amended ISA, Service Agreement No. 4401; AA1-095 to be effective 6/10/2024.

Filed Date: 4/8/24.

Accession Number: 20240408-5061.

Comment Date: 5 p.m. ET 4/29/24.

Docket Numbers: ER24-1718-000.

Applicants: Switched On, LLC.

Description: Baseline eTariff Filing: Baseline new to be effective 6/8/2024.

Filed Date: 4/8/24.

Accession Number: 20240408-5082.

Comment Date: 5 p.m. ET 4/29/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: April 8, 2024.
Debbie-Anne A. Reese,
Acting Secretary.

[FR Doc. 2024-07814 Filed 4-11-24; 8:45 am]

BILLING CODE 6717-01-P